DEPARTMENT OF VETERANS AFFAIRS

[OMB Control No. 2900-0661]

Agency Information Collection Activity Under OMB Review: State Veterans Homes Construction & Acquisition Grant Program (SVHCGP)

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0661.”

FOR FURTHER INFORMATION CONTACT: Maribel Aponte, Office of Enterprise and Integration, Data Governance Analytics (008), 810 Vermont Avenue NW, Washington, DC 20420, (202) 266-4688 or email maribel.aponte@va.gov. Please refer to “OMB Control No. 2900-0661” in any correspondence.

SUPPLEMENTARY INFORMATION:

Authority: 44 U.S.C. 3501-3521.

Title: State Veterans Homes Construction & Acquisition Grant Program (SVHCGP), VA Forms 10-0388-1, 10-0388-2, 10-0388-3, 10-0388-4, 10-0388-5, 10-0388-6, 10-0388-7, 10-0388-8, 10-0388-9, 10-0388-10, 10-0388-12, 10-0388-13.

OMB Control Number: 2900-0661.

Type of Review: Reinstatement of a previously approved collection.

Abstract: 38 U.S.C. 8133(a) and 8135(a) authorize and appropriate expenditure of funds for State Home Domiciliary, Nursing Home, and Hospital Care. These portions of the U.S.C. require, among other things, that the State applicant provide the Department of Veterans Affairs (VA) with an application. Only State governments and recognized federal tribes (their governments) will submit the information to complete an application for the State Veterans Homes Construction Grant Program (SVHCGP); private groups or citizens are not eligible. Applicants will complete VA Forms 10-0388-1, 10-0388-2, 10-0388-3, 10-0388-4, 10-0388-5, 10-0388-6, 10-0388-7, 10-0388-8, 10-0388-9, 10-0388-10, 10-0388-12, and 10-0388-13 to apply for the SVHCGP and to certify compliance with VA requirements. VA uses this information, along with other documents submitted to evaluate the feasibility of the projects for VA participation, to determine eligibility for a grant awards.

An agency may not conduct or sponsor, and a person is not required to respond to a collection of information unless it displays a currently valid OMB control number. The Federal Register Notice with a 60-day comment period soliciting comments on this collection of information was published at 88 FR 39 on February 28, 2023, page 12721.

Affected Public: State, local, or Tribal governments.

Estimated Annual Burden: 1,200 hours.

Estimated Average Burden per Respondent: 24 hours.

Frequency of Response: On occasion.

Estimated Number of Respondents: 50.

By direction of the Secretary.
Maribel Aponte,
VA PRA Clearance Officer, Office of Enterprise and Integration, Data Governance Analytics, Department of Veterans Affairs.

[FR Doc. 2023-23928 Filed 10-30-23; 8:45 am]

BILLING CODE 8320-01-P